DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed new collection of the “CES Supplemental Form on Temporary Help, Leased, and Other Contracted Work.” A copy of the proposed information collection request (ICR) can be obtained by contacting the individual listed below in the ADDRESSES section of this notice.

DATES: Written comments must be submitted to the office listed in the ADDRESSES section of this notice on or before March 13, 2006.

ADDRESSES: Send comments to Amy A. Hobby, BLS Clearance Officer, Division of Management Systems, Bureau of Labor Statistics, Room 4080, 2 Massachusetts Avenue NE., Washington, DC 20212, telephone number 202-691-7628. (This is not a toll free number.)

FOR FURTHER INFORMATION CONTACT: Amy A. Hobby, BLS Clearance Officer, telephone number 202-691-7628. (See ADDRESSES section.)

SUPPLEMENTARY INFORMATION:

I. Background

The Current Employment Statistics (CES) Survey is a Federal/State program of the Bureau of Labor Statistics. It produces monthly estimates of employment, hours, and earnings based on U.S. nonagricultural establishment payrolls. Information for these estimates is derived from 265,000 reports (representing 135,000 UI accounts and 350,000 individual worksites), as of December 2004. Each month, these firms report their employment, payroll, and hours on forms identified as BLS-790. All of these reports are collected under a probability based sample design.

The CES Supplemental Form on Temporary Help, Leased, and Other Contracted Work will focus on the use of temporary help, leased employees, and other contracted workers in all non-farm industries. Use of these types of employees are an important leading indicator of trends in the U.S. labor market and a better understanding of hiring patterns will help quantify gains and losses in payroll employment. Data will be collected for the reference period of April 12, 2006, and will include the comparable CES all employees figure, temporary help agency workers, leased workers, independent contractors, and other workers not classified elsewhere. The BLS plans to re-contact 100 of the 16,000 respondents to verify the quality of the responses received.

Reporting for the CES survey is voluntary under federal law, but is mandatory under state law in five States. The supplemental survey will not be using the State mandatory reporting authority.

The BLS may conduct additional supplemental surveys in the future, depending on the availability of resources and the significance of the topic. The BLS is requesting approval for collection through December 31, 2006.

II. Current Action

Office of Management and Budget Clearance is being sought for the CES Supplemental Form on Temporary Help, Leased, and Other Contracted Work.

III. Desired Focus of Comments

The BLS is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Type of Review: New Collection.

Agency: Bureau of Labor Statistics.

Title: CES Supplemental Form on Temporary Help, Leased, and Other Contracted Work.

OMB Number: 1220-NEW.

Affected Public: Businesses or other for-profit; Small businesses or organizations.

Form | Number of respondents | Minutes per report | Frequency of response | Annual responses | Annual burden hours
Supplemental Form on Temporary Help, Leased, and Other Contracted Work | 16,000 | 20 | 1 | 16,000 | 5,333
Response Analysis interviews | 100 | 120 | 1 | 100 | 200
Total | 16,100 |  |  | 16,100 | 5,533

Total Burden Cost (capital/startup): $0.

Total Burden Cost (operating/maintenance): $0.

Comments submitted in response to this notice will be summarized and/or included in the request for Office of Management and Budget approval of the information collection request; they also will become a matter of public record.

Signed at Washington, DC, this 3rd day of January 2006.
Kimberley Hill,
Acting Chief, Division of Management Systems, Bureau of Labor Statistics.

[FR Doc. E6-149 Filed 1-10-06; 8:45 am]

BILLING CODE 4510-24-P